COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the CFTC is planning to submit the following proposed Information Collection Request (ICR) to the Office of Management and Budget (OMB): Rules Pertaining to Contract Markets and Their Members; [OMB Control Number 3038-0022]. Before submitting the ICR to OMB for review and approval, the CFTC is soliciting comments on specific aspects of the proposed information collection as described below.

DATES: Comments must be submitted on or before January 18, 2011.

ADDRESSES: Comments may be mailed to David Van Wagner, Commodity Futures Trading Commission, Division of Market Oversight, 202-418-5481, fax 202-418-5507, e-mail dvanwagner@cftc.gov. Refer to OMB Control No. 3038-0022.

FOR FURTHER INFORMATION CONTACT: David Van Wagner @ 202-418-5481, fax 202-418-5507, e-mail dvanwagner@cftc.gov.

SUPPLEMENTARY INFORMATION: Affected entities: Entities potentially affected by this action are registered entities (designated contract markets, registered derivatives transaction execution facilities and registered derivatives clearing organizations) planning to implement new rules and rule amendments by either seeking prior approval or (for most rules) certifying to the Commission that such rules or rule amendments do not violate the Act or Commission regulations. Rules 40.2, 40.3, 40.4, 40.5 and 40.6 implement these statutory provisions.

Title: Rules Pertaining to Contract Markets and Their Members (OMB Control No. 3038-0022).

Abstract: Section 5c(c) of the Commodity Exchange Act, 7 U.S.C. 7a-2(c), establishes procedures for registered entities (designated contract markets, registered derivatives transaction execution facilities and registered derivatives clearing organizations) to implement new rules and rule amendments by either seeking prior approval or (for most rules) certifying to the Commission that such rules or rule amendments do not violate the Act or Commission regulations.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on October 6, 2010 (75 FR 61707).

The Commission would like to solicit comments to:

• Evaluate whether the proposed collection of information is necessary for the proper performance of the functions of the Commission, including whether the information will have a practical use;

• Evaluate the accuracy of the Commission's estimate of the burden of the proposed collection of information, including the validity of the methodology and assumptions used;

• Enhance the quality, usefulness, and clarity of the information to be collected; and

• Minimize the burden of collection of information on those who are to respond, including through the use of appropriate automated electronic, mechanical, or other technological collection techniques or other forms of information technology; e.g., permitting electronic submission of responses.

Burden of Statement: The respondent burden for this collection is estimated to average 2.53 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: 12,272.

Estimated Number of Responses Annually: 307,179.

Estimated Total Annual Burden on Respondents: 777,345 hours.

Frequency of Collection: On occasion.

Burden means the total time, effort, or financial resources expended by persons to generate, maintain, retain, disclose or provide information to or for a Federal agency. This includes the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Dated: December 13, 2010.
David A. Stawick,
Secretary of the Commission.

[FR Doc. 2010-31766 Filed 12-16-10; 8:45 am]

BILLING CODE P